FEDERAL ELECTION COMMISSION

Sunshine Act Meeting

AGENCY: Federal Election Commission.

Date & Time: Thursday, April 18, 2002, 10 a.m.

Place: 999 E Street, NW., Washington, DC (Ninth Floor)

Status: This meting will be open to the public.

Items To Be Discussed:

Correction and Approval of Minutes.

Notice of Proposed Rulemaking on 2002 Modifications to the Administrative Fines Program.

Routine Administrative Matters.

Person To Contact for Information:

Mr. Ron Harris, Press Officer. Telephone: (202) 694-1220.

Mary W. Dove,
Secretary of the Commission.

[FR Doc. 02-9162 Filed 4-11-02; 10:43 am]

BILLING CODE 6715-01-M